DEPARTMENT OF DEFENSE

Office of the Secretary

Membership of the Office of the Secretary of Defense Performance Review Board

AGENCY: Department of Defense.

ACTION: Notice.

SUMMARY: This notice announces the appointment of the members of the Performance Review Board (PRB) of the Office of the Secretary of Defense, to include the Joint Staff, the U.S. Mission to the North Atlantic Treaty Organization, Defense Field Activities, the U.S. Court of Appeals of the Armed Forces and the following Defense Agencies: Defense Advance Research Projects Agency, Defense Contract Management Agency, Defense Commissary Agency, Defense Security Service, Defense Security Cooperation Agency, Defense Business Transformation Agency, Defense Legal Services Agency, and Pentagon Force Protection Agency. The publication of PRB membership is required by 5 U.S.C. 4314(c)(4). The Performance Review Board (PRB) provides fair and impartial review of Senior Executive and Senior Professional performance appraisals and makes recommendations regarding performance ratings and performance awards to the Secretary of Defense.

DATES: Effective Date: October 27, 2008.

FOR FURTHER INFORMATION CONTACT: Jennifer Prater, Executive and Political Personnel Division, Human Resources Directorate, Washington Headquarters Services, Office of the Secretary of Defense, Department of Defense, The Pentagon, (703) 693-8419.

SUPPLEMENTARY INFORMATION: In accordance with 5 U.S.C. 4314(c)(4), the following executives are appointed to the Office of the Secretary of Defense PRB with specific PRB panel assignments being made from this group:

Office of the Secretary of Defense

Eric Coulter, Chairperson; Frank Anderson; Steve Austin; Pamela Bain; Regina Belguitti; Gary Bliss; William Carr; Shannon Cunniff; Steve Daly; Michael Dumont; Joyce France; Dan Gardner; Curt Gilroy; Craig Glassner; Paul Grant; Bonnie Hammersley; John Hill; Tim Hoffman; Steve Huybrechts; Jay Kistler; Paul Koffsky; William Lowry; Robert McNamara; Lydia Moschkin; Patrick O'Brien; Diana Ohman; Linda Oliver; Michael Ponti; Cheryl Roby; Robert Salesses; Richard Sayre; Alan Shaffer; Elaine Simmons; Mary Snavely-Dixon; Frances Sullivan; Richard Sylvester; Andre Van Tilborg; Patricia Walker; Michael Williams; and, Susan Yarwood.

Executives listed will serve a one-year renewable term, effective October 27, 2008.

Dated: October 6, 2008.
Morgan E. Frazier,
Alternate OSD Federal Register Liaison Officer, Department of Defense.

[FR Doc. E8-24332 Filed 10-10-08; 8:45 am]

BILLING CODE 5001-06-P